DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Dates And Time: January 10, 2013—9:30 a.m.—4:45 p.m., January 11, 2013—8:00 a.m.—12:00 p.m.

Place: Health Resources and Services Administration, Parklawn Building, 5600 Fishers Lane, Room 16-49, Rockville, MD 20857.

Status: The meeting will be open to the public.

Agenda: The Council is convening in Rockville, Maryland to hear the Health Resources and Services Administration and NHSC program updates and discuss NHSC's retention strategy and inter-agency workforce efforts. A portion of the meeting will be open for public comment and questions on the second day.

The public can join the meeting via audio conference call on the dates and times specified above using the following information: Dial-in number: 1-888-455-9651; Passcode: 7699967.

FOR FURTHER INFORMATION CONTACT: Njeri Jones, Bureau of Clinician Recruitment and Service, Health Resources and Services Administration, Parklawn Building, Room 13-64, 5600 Fishers Lane, Rockville, MD 20857; email: NJones@hrsa.gov; Telephone: (301) 443-2541.

Dated: December 3, 2012.
Bahar Niakan,
Director, Division of Policy and Information Coordination.

[FR Doc. 2012-29727 Filed 12-7-12; 8:45 am]

BILLING CODE 4165-15-P